DELAWARE RIVER BASIN COMMISSION

Notice of Commission Meeting and Public Hearing

Notice is hereby given that the Delaware River Basin Commission will hold an informal conference followed by a public hearing on Wednesday, June 2, 2004. The hearing will be part of the Commission's regular business meeting. Both the conference session and business meeting are open to the public and will be held at the Delaware River Basin Commission, 25 State Police Drive, West Trenton, New Jersey.

The conference among the commissioners and staff will begin at 10 a.m. Topics of discussion will include: An update on the development and completion of the Water Resources Plan for the Delaware River Basin; a proposed resolution amending the Water Quality Regulations, Water Code, and Comprehensive Plan by authorizing the Commission to require waste minimization plans for point and non-point dischargers; and a proposed resolution amending the Water Code and Comprehensive Plan relating to basin reservoir operations during drought.

The subjects of the public hearing to be held during the 1 p.m. business meeting include the dockets listed below:

1. Borough of Catasauqua D-87-60 CP RENEWAL 2. An application for the renewal of a ground water withdrawal project to continue withdrawal of 40mg/30 days to supply the applicant's public water supply distribution system from existing Wells Nos. 1, 2, 4, and 5 in the Epler formation. The project is located in Catasauqua Borough, Lehigh County, Pennsylvania.

2. Northampton Borough Municipal Authority D-2004-6 CP. An application to increase the surface water withdrawal from 6 million gallons per day (mgd) to 8 mgd from the applicant's existing intakes on the Lehigh River, which are located at the northern tip of Whitehall Township, Lehigh County, Pennsylvania. The water will continue to supply the applicant's distribution system which serves the Boroughs of Northampton and North Catasauqua in Northampton County; and the Borough of Coplay plus a portion of Whitehall Township in Lehigh County. The project requires only the upgrade of two raw water pumping stations with new pumping facilities.

3. Stony Creek Anglers, Inc. D-2004-12. An application for approval of a ground water withdrawal project to supply up to 5.2 million gallons (mg)/30 days of water to the applicant's trout nursery from Well No. 2 in the Stockton Formation, and to retain the existing withdrawal from all wells to 5.2 mg/30 days. The project well is located in the Stony Creek Watershed in West Norriton Township, Montgomery County, Pennsylvania and is located in the Southeastern Pennsylvania Ground Water Protected Area.

4. Warminster Municipal Authority D-2004-21 CP. An application to construct a 1.2 million gallon per day (mgd) Sewage Treatment Plant (STP) to provide tertiary treatment of wastewater from the proposed commercial redevelopment of the Naval Air Warfare Center (NAWC) Site. The project is located on Jacksonville Road, near the intersection of Street Road at the NAWC in Warminster Township, Bucks County, Pennsylvania. Following tertiary treatment, the effluent will be discharged to an unnamed tributary of the Little Neshaminy Creek in the Neshaminy Creek Watershed.

The Commission's 1 p.m. business meeting also will include consideration of a resolution to initiate a notice and comment rulemaking process to amend the Water Quality Regulations, Water Code, and Comprehensive Plan by authorizing the Commission to require waste minimization plans for point and non-point dischargers; a resolution to initiate a notice and comment rulemaking process to amend the Water Code and Comprehensive Plan relating to basin reservoir operations during drought, for purposes of clarification; a resolution authorizing the executive director to enter into agreements with the U.S. Army Corps of Engineers, PPL Holtwood, LLC and others as appropriate to fund a study to determine flow needs of the dwarf wedgemussel in the upper basin; a resolution authorizing the executive director to enter into a contract for analytical services to support the Lower Delaware monitoring program; a resolution providing for election of the Commission Chair, Vice Chair and Second Vice Chair for the year 2004-2005, commencing July 1, 2004. In addition, the meeting will include: adoption of the Minutes of the April 21, 2004, business meeting; announcements; a report on Basin hydrologic conditions; a report by the executive director; and a report by the Commission's general counsel.

Draft dockets scheduled for public hearing on June 2, 2004, are posted on the Commission's Web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the Commission secretary directly at 609-883-9500 ext. 203 or through the Telecommunications Relay Services (TRS) at 711, to discuss how the Commission may accommodate your needs.

Dated: May 18, 2004.
Pamela M. Bush,
Commission Secretary.

[FR Doc. 04-11695 Filed 5-24-04; 8:45 am]

BILLING CODE 6360-01-P